DEPARTMENT OF HEALTH AND HUMAN SERVICES

Administration for Children and Families

Proposed Information Collection Activity; Comment Request

Proposed Projects

Title: State Title IV-D Agency Caseworkers On-line Survey

OMB No.: New Collection

Description: The Office of Child Support Enforcement (OCSE) plans to reach out to as many State child support enforcement caseworkers as possible to invite them to participate in a brief on-line survey. The responses will be used to determine if OCSE needs to modify the content and the means of communicating information and training materials used to process child support enforcement cases. All information will be treated confidentially and will not be identified by State or email address of respondents. Depending on the overall response rate to the outreach efforts through the title IV-D agencies, the actual number of respondents could be much lower than the nationwide estimate of 60,000 caseworkers used for the burden estimates.

Respondents: State Title IV-D Agency Caseworkers

Annual burden Estimates
Instrument | Number of respondents | Number of responses per respondent | Average burden hours per response | Total burden hours
Invitation to participate in on-line survey | 60,000 | 1 | .1 | 6,000

Estimated Total Annual Burden Hours:: 6,000

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L‘Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 3, 2006.
Robert Sargis,
Reports Clearance Officer.

[FR Doc. 06-8556 Filed 10-6-06; 8:45 am]

BILLING CODE 4184-01-M